DEPARTMENT OF TRANSPORTATION

Federal Motor Carrier Safety Administration

[Docket No. FMCSA-2022-0081]

Agency Information Collection Activities; Renewal of an Approved Information Collection: Safe Driver Apprenticeship Pilot Program

AGENCY: Federal Motor Carrier Safety Administration (FMCSA), Department of Transportation (DOT).

ACTION: Notice and request for comments.

SUMMARY: In accordance with the Paperwork Reduction Act of 1995, FMCSA announces its plan to submit the information collection request (ICR) described below to the Office of Management and Budget (OMB) for its review and approval and invites public comment. FMCSA requests approval to renew the ICR titled “Safe Driver Apprenticeship Pilot Program.” This ICR was previously approved under emergency procedures on January 24, 2022 and expires on July 31, 2022. The ICR is necessary for FMCSA to conduct a pilot program to determine the safety impacts of allowing 18- to 20-year-old commercial driver's license (CDL) holders to operate commercial motor vehicles (CMVs) in interstate commerce. The ICR will cover data collected on drivers and carriers participating in the pilot program.

DATES: Please send your comments by August 10, 2022. OMB must receive your comments by this date in order to act quickly on the ICR.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Nicole Michel, Office of Analysis, Research, and Technology, Research Division, DOT, FMCSA, West Building, 6th Floor, 1200 New Jersey Avenue SE, Washington, DC 20590-0001. 202-366-4354; Nicole.michel@dot.gov. Office hours are from 9 a.m. to 5 p.m., Monday through Friday, except Federal Holidays.

SUPPLEMENTARY INFORMATION: Background: Current regulations on driver qualifications (49 CFR part 391.11(b)(1)) state that a driver must be 21 years of age or older to operate a CMV in interstate commerce. Currently, drivers under the age of 21 may operate CMVs only in intrastate commerce subject to State laws and regulations. Section 23022 of the Infrastructure Investment and Jobs Act (IIJA), requires the Secretary of Transportation to conduct a commercial driver Apprenticeship Pilot Program. An apprentice is defined as a person under the age of 21 who holds a CDL. Under this program, these apprentices will complete two probationary periods, during which they may operate in interstate commerce only under the supervision of an experienced driver in the passenger seat. An experienced driver is defined in section 23022 as a driver who is not younger than 26 years old, who has held a CDL and been employed for at least the past 2 years, who has at least 5 years of interstate CMV experience, and meets the other safety criteria defined in the IIJA.

The first probationary period must include at least 120 hours of on duty time, of which at least 80 hours are driving time in a CMV. To complete this probationary period, the employer must determine competency in:

1. Interstate, city traffic, rural 2-lane, and evening driving;

2. Safety awareness;

3. Speed and space management;

4. Lane control;

5. Mirror scanning;

6. Right and left turns; and

7. Logging and complying with rules relating to hours of service.

The second probationary period must include at least 280 hours of on-duty time, including not less than 160 hours driving time in a CMV. To complete this probationary period, the employer must determine competency in:

1. Backing and maneuvering in close quarters;

2. Pre-trip inspections;

3. Fueling procedures;

4. Weighing loads, weight distribution, and sliding tandems;

5. Coupling and uncoupling procedures; and

6. Trip planning, truck routes, map reading, navigation, and permits.

After completion of the second probationary period the apprentice may begin operating CMVs in interstate commerce unaccompanied by an experienced driver.

In addition to data regarding successful completion of the probationary periods, the IIJA requires collection of data relating to any incident in which a participating apprentice is involved as well as other data relating to the safety of apprentices. Additional data will include crash data (incident reports, police reports, insurance reports), inspection data, citation data, safety event data (as recorded by all safety systems installed on vehicles, to include advanced driver assistance systems, automatic emergency braking systems, onboard monitoring systems, and required forward-facing and in-cab video systems) as well as exposure data (record of duty status logs, on-duty time, driving time, and time spent away from home terminal). Additionally, carriers will be asked to report any additional or remedial training being given to participating drivers. This data will be submitted monthly by participating motor carriers. The data collected will be used to report on the following items, as required by section 23022:

1. The findings and conclusions on the ability of technologies or training provided to apprentices as part of the pilot program to successfully improve safety;

2. An analysis of the safety record of participating apprentices as compared to other CMV drivers;

3. The number of drivers that discontinued participation in the apprenticeship program before completion;

4. A comparison of the safety records of participating drivers before, during, and after each probationary period; and

5. A comparison of each participating driver's average on-duty time, driving time, and time spent away from home terminal before, during, and after each probationary period.

FMCSA will monitor the monthly data being reported by the motor carriers and will identify drivers or carriers that may pose a risk to public safety. While removing unsafe drivers or carriers may bias the dataset, it is a necessary feature for FMCSA to comply with § 381.505, which requires development of a monitoring plan to ensure adequate safeguards to protect the health and safety of pilot program participants and the general public. Knowing that a driver or carrier was removed from the pilot program for safety reasons will help FMCSA minimize bias in the final data analysis.

FMCSA and the Department of Labor's Employment and Training Agency (DOL/ETA) will be partnering in the implementation of the Safe Driver Apprenticeship Pilot (SDAP) Program. All motor carriers who are approved for the program by FMCSA will also be required to become Registered Apprenticeships (RAs) under 29 CFR part 29 before they can submit information on their experienced drivers and apprentices. The information collection burden for the DOL/ETA RA Program can be found in approved ICR 1205-0223.

The statutory mandate for this pilot program is contained in section 23022 of the IIJA. FMCSA's regulatory authority for initiation of a pilot program is found in 49 CFR 381.400. The SDAP program supports the DOT strategic goal of economic strength while maintaining DOT and FMCSA's commitment to safety.

Publication History: On January 7, 2022, FMCSA published a notice in the Federal Register seeking public comment on the emergency approval of this ICR (87 FR 1001). A total of 144 comments were received on that notice; you may find a discussion of these comments in the 60-day notice that published in the Federal Register (87 FR 23010).

On April 18, 2022, FMCSA published a 60-day notice in the Federal Register, announcing its intention to request that OMB renew the emergency information collection approval for a full 3-years. FMCSA received 16 comments in the docket for that notice. Of these, nine were comments on the ICR, and seven were misfiled comments on a separate notice issued by FMCSA. Of the nine comments on the ICR, four were submitted by individuals. The remaining three comments were filed by Samsara Inc., the American Trucking Associations (ATA), the Shippers Coalition, the American Property Casualty Insurance Association (APCIA), and jointly by the Truck Safety Coalition (TSC), Citizens for Reliable and Safe Highways (CRASH), and Parents Against Tired Truckers (PATT).

Comment Discussion: The comments received from the Shippers Coalition, ATA, Samsara, Inc., and two of the individuals supported the SDAP Program generally, and the information collection discussed in the 60-day notice. One of the individual commenters caveated his support by noting that both apprentice and experienced drivers must be thoroughly vetted for safety. The other individual questioned why the number of apprentice participants is being capped at 3,000. ATA commended FMCSA on clarifying the burden estimate and recommended that FMCSA re-consider other suggestions posed in their prior comment.

Response: FMCSA appreciates the support and will be ensuring a thorough vetting of participating motor carriers, experienced drivers, and apprentices. As to the number of participants, the IIJA limits the total number of apprentices in the program at any one time to 3000 (see IIJA § 23022(b)(4)). Regarding ATA's suggestion on minimizing burden for the monthly data collection, FMCSA is committed to working with participating carriers to ensure data is collected in a meaningful and least-burdensome method.

The comments submitted by the remaining two individuals focused on elements of or questions on the underlying SDAP Program and were not specific to the ICR. One of these individuals questioned who will insure the “high risk young drivers.” The other noted that he does not think the SDAP Program will help alleviate a truck driver shortage, stating that trucking companies will just mistreat young drivers the way they mistreat drivers over the age of 21, resulting in more drivers leaving the profession.

Response: FMCSA is not in a position to answer the question about who will insure the apprentice drivers, but notes that any motor carrier wishing to participate in the SDAP Program will need to provide proof that their apprentice drivers are covered by a valid insurance policy, or that the motor carrier is a participant in FMCSA's self-insurance program. As to the comment regarding mistreatment of apprentice drivers, FMCSA notes that the requirements for RA programs under DOL regulations provide protection from the type of mistreatment the commenter discussed. This is one reason why FMCSA partnered with the DOL and is requiring that motor carriers participating in the SDAP Program also become Registered Apprenticeship participants.

APCIA's comment raised questions regarding the data FMCSA will collect and the data that FMCSA will use as comparison data. APCIA stated that FMCSA “must show that participating drivers are no more likely than the current population of interstate commercial truck drivers [to] have highway accidents.” APCIA also noted that the information collected should capture any additional training that individual motor carriers may add, on top of those required by the SDAP Program, and requested that the final public data set include detailed statistical information on the program's safety results, to aid insurers in making decisions in the future.

Response: While the APCIA has provided statistics on crash rates of younger drivers, one of the key components of this pilot program is to identify how a structured training and probationary period can enhance the safety of younger CMV operators, which can only be determined through conducting the pilot program. FMCSA agrees that it is important to collect information on any remedial or additional training that occurs and has included this information in the monthly data collection plan. FMCSA will publish all detailed statistics collected during the study provided no personally identifiable information is included.

Finally, TSC, CRASH, and PATT noted their opposition to the SDAP Program, and urged that FMCSA immediately terminate it. In the alternative, the commenters requested that FMCSA add several requirements to the SDAP Program, including: extending requirements for the technology that is required to be installed in a CMV past the probationary periods to the entirety of the apprenticeship; requiring both front- and rear-facing cameras; and requiring all participating motor carriers to agree to a compliance review or DOT audit within 18 months of acceptance into the SDAP Program. Additionally, Samsara, Inc. also recommended requiring both forward facing and in-cab camera views.

Response: FMCSA agrees with and accepts the requirement for both forward facing- and rear- (in-cab) facing cameras throughout the participation period of apprentices to be able to collect adequate safety data. Requiring additional technology, such as speed limiters or active braking mitigation devices past the probationary period could be prohibitive to smaller carriers wishing to participate, and therefore FMCSA has decided not to extend the technology requirements past what is in the IIJA. FMCSA will note that the adoption of these technologies is steadily increasing, and it is therefore likely that a large percentage of apprentices, if not all, will continue to utilize these technologies throughout their tenure in the program despite the lack of requirement. FMCSA will collect data on a monthly basis regarding which technologies are actively employed on the vehicles which apprentices are driving. FMCSA requiring a compliance review or DOT audit of up to 1,000 carriers participating in the program would detract resources from carriers who have been flagged for a compliance review or DOT audit due to safety-related reasons. This requirement is not feasible for FMCSA to implement at this time.

Title: Safe Driver Apprenticeship Pilot Program.

OMB Control Number: 2126-0075.

Type of Request: Renewal of an information collection previously approved under emergency authority.

Respondents: Motor carriers; drivers.

Estimated Number of Respondents: 14,830 total (1,600 motor carriers and 13,230 CMV drivers); 5,410 annually (1,000 carriers and 4,410 CMV drivers).

Estimated Time per Response: Application (motor carrier, apprentice driver, and experienced driver): 20 Minutes; safety benchmark certifications: 15 Minutes; monthly driving and safety data: 60 Minutes; miscellaneous data submission: 90 Minutes.

Expiration Date: July 31, 2022.

Frequency of Response: Application (motor carrier, apprentice driver, and experienced driver): Once; safety benchmark certifications: Twice for each apprentice driver; monthly driving and safety data: Monthly; miscellaneous data submissions: Monthly.

Estimated Total Annual Burden: 169,344 hours total, or 56,448 hours annually (motor carriers: 164,934 hours total, or 54,978 hours annually, which includes a one-time application, two safety benchmark certifications for each participating apprentice, and monthly driving and safety data on all participating apprentices as well as miscellaneous data submissions; drivers: 13,797 hours total, or 4,599 hours annually which includes a one-time application for experienced and apprentice drivers).

Definitions: N/A.

Public Comments Invited: You are asked to comment on any aspect of this information collection, including: (1) Whether the proposed collection is necessary for the performance of FMCSA's functions; (2) the accuracy of the estimated burden; (3) ways for FMCSA to enhance the quality, usefulness, and clarity of the collected information; and (4) ways that the burden could be minimized without reducing the quality of the collected information. The Agency will summarize or include your comments in the request for OMB's clearance of this ICR.

Issued under the authority of 49 CFR 1.87.
Thomas P. Keane,
Associate Administrator, Office of Research and Registration.

[FR Doc. 2022-14626 Filed 7-8-22; 8:45 am]

BILLING CODE 4910-EX-P